NUCLEAR REGULATORY COMMISSION

[Docket No. 50-16; NRC-2009-0238]

DTE Energy, Enrico Fermi Atomic Power Plant, Unit 1; Notice of Public Meeting on the Proposed License Amendment and License Termination Plan

The U.S. Nuclear Regulatory Commission (NRC) is providing notice that the NRC staff will conduct a meeting to discuss and accept public comments on the Enrico Fermi Atomic Power Plant, Unit 1 (Fermi-1) proposed License Amendment and License Termination Plan (LTP) on Tuesday, June 30, 2009, at 7 p.m. in a meeting room at the Monroe County Board of Commissioners, 125 E. Second Street, Monroe, MI 48161 (http://www.co.monroe.mi.us/).

Fermi-1 was granted an operating license on May 10, 1963 by the Atomic Energy Commission, the regulatory predecessor to the NRC. Power testing above one megawatt thermal commenced in December 1965. In October 1966, due to blocked coolant flow, two fuel subassemblies sustained significant damage. No abnormal releases to the environment occurred. Fermi-1 was restarted approximately four years later. The facility was permanently shut down in November 1972 and the fuel and blanket subassemblies were shipped offsite in 1973. A possession-only license was issued on January 23, 1976. Since that time, the site has been in safe storage pending final decommissioning. Pursuant to 10 CFR 50.51(b), “Continuation of license,” the facility license remains in effect until the NRC notifies the licensee that the license has been terminated. On March 25, 2009, DTE Energy, the licensee, submitted a proposed LTP for the Fermi-1 site. The proposal is to incorporate the LTP by license condition (LC) via an amendment to the Fermi-1 license. The LC would also establish change criteria for determining when changes to the LTP would require prior NRC approval. The LTP describes the planned decommissioning activities, provides a schedule for the planned decommissioning activities, includes a cost estimate for the decommissioning, and assesses the environmental impacts.

The application for license amendment and the proposed LTP are available for public viewing at the NRC's Public Document Room (PDR) or electronically through the NRC Agencywide Documents Access and Management System (ADAMS) at accession number ML090970803. Documents may be examined, and/or copied for a fee, at the PDR, located at One White Flint North, 11555 Rockville Pike (first floor), Rockville, Maryland. Publicly available records will be accessible electronically from the ADAMS Public Library component on the NRC Web site, http://www.nrc.gov (the Public Electronic Reading Room). Persons who do not have access to ADAMS or who encounter problems in accessing the documents located in ADAMS should contact the NRC PDR Reference staff by telephone at 1-800-397-4209, or 301-415-4737, or by e-mail at pdr@nrc.gov.

Comments or questions regarding the proposed license amendment, proposed LTP or the public meeting may be addressed to Mr. Theodore B. Smith, Mail Stop T-8F5, Decommissioning and Uranium Recovery Licensing Directorate, Division of Waste Management and Environmental Protection, Office of Federal and State Materials and Environmental Management Programs, U.S. Nuclear Regulatory Commission, Washington, DC 20555-0001, telephone (301) 415-6721 or via e-mail Theodore.Smith@nrc.gov.

Dated at Rockville, Maryland, this 5th day of June 2009.
For The Nuclear Regulatory Commission.
Duane Schmidt,
Acting Branch Chief, Reactor Decommissioning Branch, Decommissioning and Uranium Recovery Licensing Directorate, Division of Waste Management and Environmental Protection, Office of Federal and State Materials and Environmental Management Programs.

[FR Doc. E9-13820 Filed 6-11-09; 8:45 am]

BILLING CODE 7590-01-P